ENVIRONMENTAL PROTECTION AGENCY

[ER-FRL-8994-1]

Environmental Impact Statements; Notice of Availability

Responsible Agency: Office of Federal Activities, General Information (202) 564-1399 or http://www.epa.gov/compliance/nepa/.

Weekly Receipt of Environmental Impact Statements, Filed 11/29/2010 Through 12/03/2010

Pursuant to 40 CFR 1506.9.

Notice:

In accordance with Section 309(a) of the Clean Air Act, EPA is required to make its comments on EISs issued by other Federal agencies public. Historically, EPA has met this mandate by publishing weekly notices of availability of EPA comments, which includes a brief summary of EPA's comment letters, in the Federal Register. Since February 2008, EPA has been including its comment letters on EISs on its Web site at: http://www.epa.gov/compliance/nepa/eisdata.html. Including the entire EIS comment letters on the Web site satisfies the Section 309(a) requirement to make EPA's comments on EISs available to the public. Accordingly, on March 31, 2010, EPA discontinued the publication of the notice of availability of EPA comments in the Federal Register.

EIS No. 20100458, Draft EIS, FHWA, CA, Phase II—CA-11 and Otay Mesa East Port of Entry Project, Construction of a new State Route and Port of Entry in the East Otay Mesa Are of the City and County of San Diego, CA from the State Route 905/State Route 125 Interchange to the U.S.-Mexico Border, Comment Period Ends: 02/01/2011, Contact: Cesar Perez 916-498-5065.

EIS No. 20100459, Draft EIS, BPA, 00, Big Eddy-Knight Transmission Project, Proposal to Construct, Operate, and Maintain a 27-28 mile long 500-Kilovolt Transmission Line using a Combination of Existing BPA and New 150-Foot wide Right-of-Way, Wasco County, OR and Klickitat County, WA, Comment Period Ends: 01/28/2011, Contact: Stacy Mason 503-230-5455.

EIS No. 20100460, Final EIS, FHWA, WA, WA-520 Bridge Replacement and HOV Program, To Build the New Pontoon Construction Facility, Gray Harbor and Pierce Counties, WA, Wait Period Ends: 01/10/2011, Contact: Allison Hanson 206-805-2880.

EIS No. 20100461, Draft EIS, USFS, WY, Noble Basin Master Development Plan (MDP) Project, Proposes to Drill up to 136 Oil and Gas Wells on Existing Oil and Gas Leases on National Forest System (NFS) Lands, Approval of a Surface Use Plan of Operations (SUPO) for a Master Development Plan (MDP), Sublette County, WY, Comment Period Ends: 03/11/2011, Contact: Jacqueline A. Buchanan 307-739-5510.

Amended Notices

EIS No. 20040229, Final EIS, FHWA, WA, ADOPTION—I-90 Two-Way Transit and HOV Operation Project, Providing Reliable Transportation between Seattle and Bellevue, Sound Transit Regional Express, U.S. Coast Guard Permit and U.S. Corps Nationwide Permit, King County, WA, Contact: John Witmer, 206-220-7964. Revision to FR Notice Published 05/21/2004: The U.S. Department of Transportation's, Federal Transit Administration (DOT/FTA) has ADOPTED the U.S. Department of Transportation's Federal Highway Administration FEIS #20040229, filed on 05/13/2004. DOT/FTA was a Cooperating Agency for the above project. Recirculation of the FEIS is not necessary under 40 CFR 1506.3(c).

EIS No. 20100329, Final EIS, BLM, CA, ADOPTION—Blythe Solar Power Project (09-AFC-6), Application for Right-of Way Grant to Construct and Operate, and Decommission a Solar Thermal Facility on Public Lands, Riverside County, CA, Contact: Matthew McMillen, 202-586-7248. Revision to FR Notice Published 08/20/2010: The U.S. Department of Energy's has adopted the Department of Interior's Bureau of Land Management FEIS #20100329, filed 08/13/2010. DOE was a cooperating agency for the above project. Recirculation of the FEIS is not necessary under 40 CFR 1506.3(c).

EIS No. 20100431, Final EIS, USFS, WA, Dosewallips Road Washout Project, To Reestablish Road Access to both Forest Service Road (FSR) 2610 and Dosewallips Road, Hood Canal Ranger District Olympic National Forest, Olympic National Park, Jefferson County, WA, Wait Period Ends: 01/03/2011, Contact: Tim Davis 360-956-2375. Revision to FR Notice Published 11/05/2010: Extending Wait Period from 12/06/2010 to 01/03/2011.

EIS No. 20100435, Draft EIS, BR, CA, Suisun Marsh Habitat Management, Preservation, and Restoration Plan, Implementation, CA, Comment Period Ends: 12/28/2010, Contact: Doug Kleinsmith 916-978-5034 Revision to FR Notice Published 11/05/2010: Extending Comment Period from 12/20/2010 to 12/28/2010.

EIS No. 20100442, Draft Supplement, FTA, WA, East Link Rail Transit Project, New and Update Information, Proposes to Construct and Operate an Extension of the Light Rail System from downtown Seattle to Mercer Island, Bellevue, and Redmond via Interstate 90, Funding and U.S. Army COE Section 404 and 10 Permits, Seattle, WA, Comment Period Ends: 01/10/2011, Contact: John Witmer 206-220-7950. Revision to FR Notice Published 11/12/2010: Extending Comment Period from 12/27/2010 to 01/10/2011.

EIS No. 20100455, Final EIS, BLM, NV, ON Line Project, (Previously Known as Ely Energy Center) Proposed 236-mile long 500 kV Electric Transmission Line from a new substation near Ely, Nevada approximately 236 mile south to the existing Harry Allen substation near Las Vegas, Clark, Lincoln, Nye and White Pine Counties, NV, Wait Period Ends: 01/04/2011, Contact: Michael Dwyer 775-293-0523. Revision to FR Notice Published 12/06/2010: Correction to Wait Period from 01/03/2010 to 01/04/2011.

EIS No. 20100457, Final EIS, NPS, FL, Big Cyress National Preserve Addition, General Management Plan/Wilderness Study/Off-Road Vehicle Management Plan, Implementation, Collier County, FL, Wait Period Ends: 01/04/2011, Contact: Pedro Ramos 239-695-1101. Revision to FR Notice Published 12/06/2010: Correction to Wait Period from 01/03/2011 to 01/04/2011

Dated: December 7, 2010.
Robert W. Hargrove,
Director, NEPA Compliance Division, Office of Federal Activities.

[FR Doc. 2010-31087 Filed 12-9-10; 8:45 am]

BILLING CODE 6560-50-P